DEPARTMENT OF HEALTH AND HUMAN SERVICES

Food and Drug Administration

[FDA 225-03-7000]

Memorandum of Understanding Between the Food and Drug Administration and Agricultural Marketing Service, United States Department of Agriculture

AGENCY: Food and Drug Administration, HHS.

ACTION: Notice.

SUMMARY: The Food and Drug Administration (FDA) is providing notice of a memorandum of understanding (MOU) between the Food and Drug Administration and Agricultural Marketing Service, United States Department of Agriculture. The purpose of the MOU is to ensure that sponsors of new antimicrobial animal drugs have access to an effective means for evaluating the effects of their drugs on current Food Safety and Inspection Service detection tests.

DATES: The agreement became effective January 23, 2003.

FOR FURTHER INFORMATION CONTACT: Valerie Reeves, Center for Veterinary Medicine (HFV-151), Food and Drug Administration, 7500 Standish Pl., Rockville, MD 20855, 301-827-6973.

SUPPLEMENTARY INFORMATION: In accordance with 21 CFR 20.108 (c), which states that all written agreements and MOUs between FDA and others shall be published in the Federal Register, the agency is publishing notice of this MOU.

Dated: November 21, 2003.
Jeffrey Shuren,
Assistant Commissioner for Policy.

BILLING CODE 4160-01-S

[FR Doc. 03-30027 Filed 12-2-03; 8:45 am]

BILLING CODE 4160-01-C